DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 9, 2001.

Interested persons are invited to submit written comments regarding the subject matter of the investigations to the Director, Division of Trade Adjustment Assistance, at the address shown below, not later than November 9, 2001.

The petitions filed in this case are available for inspection at the Office of the Director, Division of Trade Adjustment Assistance, Employment and Training Administration, Department of Labor, Room C-5311, 200 Constitution Avenue, NW., Washington, DC 20210.

Signed at Washington, DC this 24th day of September, 2001.
Edward A. Tomchick,
Director, Division of Trade Adjustment Assistance.

Appendix
[Petitions Instituted on 09/24/2001]
TA-W | Subject firm (Petitioners) | Location | Date of petition | Product(s)
40,059 | Valeo (IUE) | Rochester, NY | 09/10/2001 | Automotive Components.
40,060 | Interment Corp (Wrks) | Radford, VA | 09/06/2001 | Automotive Parts.
40,061 | Parker Hannifer (Wrks) | Otsego, Mi | 09/04/2001 | Assemble Manifold.
40,062 | Tradewinds Cleaning (Co.) | Neosho, MO | 09/04/2001 | Oasis Vacuums.
40,063 | Laclede Steel Co (Wrks) | St. Louis, MO | 09/05/2001 | Semifinished Billets.
40,064 | H and H Tool (Wrks) | Meadville, PA | 09/06/2001 | Components for Plastic Molds
40,065 | Haemer-Wright Tool (Wrks) | Sawgertown, PA | 09/04/2001 | Spare Machine Parts.
40,066 | Stewart Connector Systems (Wrks) | Glen Rock, PA | 09/10/2001 | Molded, Shielded Modular Components.
40,067 | Stanly Knitting Mills (Co) | Oakboro, NC | 09/11/2001 | Embroidery of Caps—Headwear.
40,068 | Damy Industries (Co.) | Athens, TN | 07/19/2001 | Ladies' Apparel.
40,069 | Westvaco Corp. (PACE) | Tyrone, PA | 09/11/2001 | Fine Paper.
40,070 | Engelhard Corp. (Co.) | McIntyre, GA | 09/07/2001 | Mining & Kaolin Products.
40,071 | PTC Alliance (USWA) | Darlington, PA | 09/04/2001 | Mechanical Draw Tubing.
40,072 | Converter Concepts (Wrks) | Memphis, MO | 09/11/2001 | Electronic Components.
40,073 | Micro Tool & Mfg. (Co.) | Meadville, PA | 09/07/2001 | Plastic Injection Molds and Components.
40,074 | Kentucky Apparel (Co.) | Tompkinsville, KY | 09/05/2001 | Blue Jeans.
40,075 | Pohlman Foundry Co., Inc. (Wrks) | Buffalo, NY | 09/06/2001 | Compressor Housings.
40,076 | Rockwell Automation (IUE) | Milwaukee, WI | 09/06/2001 | Industrial Controls, Switches.
40,077 | Prime Tanning (Co.) | Rochester, NH | 09/04/2001 | Side Leather—Footwear.
40,078 | Guilford Mills (Co.) | Pine Grove, PA | 09/10/2001 | Finished Fabrics.
40,079 | Zilog, Inc. (Co.) | Nampa, ID | 08/31/2001 | Integrated Circuits.
40,080 | Lyon Fashions, Inc. (Co.) | McAlisterville, PA | 09/13/2001 | Ladies' Dresses.
40,081 | Goss Graphics (IAM&AW) | Cedar Rapids, IA | 09/05/2001 | Web Offset Printing Presses.
40,082 | Millennium Inorganic (USWA) | Baltimore, MD | 09/04/2001 | Titanium Dioxide.
40,083 | Hooker Furniture (Co.) | Martinsville, VA | 09/07/2001 | Bedroom Funiture.
40,084 | Mettler Toledo Process (Co.) | Woburn, MA | 09/07/2001 | Glass Blowing and Assembly.
40,085 | NACCO Materials (Wrks) | Sulligent, AL | 09/07/2001 | Steel Axles, Drive Axles.
40,086 | Mail Well Envelope (Wrks) | Portland, OR | 09/07/2001 | Envelopes.
40,087 | Spicer Axle (Co.) | Columbia, MO | 09/07/2001 | Rear Axles.
40,088 | Shape Global Technology (Wrks) | Sanford, ME | 08/08/2001 | Video Cassettes and Accessories.
40,089 | Bank Manufacturing Co. (Co.) | Havelock, NC | 09/04/2001 | Medical Apparel & Patient Gowns.
40,090 | New England Castings (Wrks) | Hiram, ME | 09/07/2001 | Investment Castings.
40,091 | Bolivar Tees (Wrks) | Bolivar, MO | 09/04/2001 | T-Shirts.
40,092 | MICTEC, Inc. (Co.) | Canonsburg, PA | 09/07/2001 | Refractory Materials for Steel Industry.
40,093 | Revere Ware Corp. (Wrks) | Clinton, IL | 09/04/2001 | Stainless Steel Cookware.
40,094 | Heraeus QuartzTech (Co.) | Buford, GA | 09/30/2001 | Quartz Glass Components.
40,095 | Galina Bonquet, Inc. (Co.) | New York, NY | 08/31/2001 | Bridal Gowns.
40,096 | Crenlo, Inc, (Wrks) | Rochester, MN | 09/05/2001 | Metal Enclosures.
40,097 | Ismeca USA (Co.) | Vista, CA | 08/25/2001 | Semi-Conductors.
40,098 | Toastmaster, Inc. | Boonville, MO | 09/04/2001 | Warehousing—Small Appliances.
40,099 | Shasta Paper Co. (PACE) | Anderson, CA | 09/04/2001 | Specialty Paper.
40,100 | FMC Technologies (Wrks) | Homer City, PA | 08/10/2001 | Bowl Feeders.
40,101 | Lee Dyeing Co. of NC (Co.) | Gloversville, NY | 07/07/2001 | Fabric Dyeing.
40,102 | Joplin Manufacturing c | Joplin, MO | 09/03/2001 | Explosive—Mining.
40,103 | ASARCO, Inc. (Co.) | Sahuartia, AZ | 08/31/2001 | Copper Concentrate.
40,104 | ASARCO, Inc. (Co.) | Hayden AZ | 08/03/2001 | Copper Concentrate.
40,105 | CTS Reeves Frequency (Co.) | Sandwich, IL | 08/21/2001 | Crystal Oscillators.

[FR Doc. 01-27240 Filed 10-29-01; 8:45 am]

BILLING CODE 4510-30-M